DEPARTMENT OF THE INTERIOR

Bureau of Land Management

[ID-084-1150-EU)

Notice of Realty Action, Sale of Public Land in Custer County, Idaho (IDI-32472)

AGENCY: Bureau of Land Management, Interior.

ACTION: Sale of public land in Custer County.

SUMMARY: The following-described public land has been examined and through the public-supported land use planning process has been determined to be suitable for disposal by direct sale pursuant to Section 203 of the Federal Land Policy and Management Act of 1976 at no less than the appraised fair market value of $24,600. The land will not be offered for sale until at least 60 days after the date of publication of this notice in the Federal Register.

Boise Meridian

T. 7 N., R. 24 E., sec. 25, Lots 7 and 10.

T. 7 N., R. 24 E., sec. 30, Lot 8.

The area described contains 49.2 acres in Custer County.

The patent, when issued, will contain a reservation to the United States for ditches and canals under the Act of March 30, 1890.

The patent, when issued, will be made subject to the following existing rights of record:

1. IDI-21021—A telephone line right-of-way authorized to ATC Communications.

2. IDI-23188—A road right-of-way authorized to Lost River Highway District.

3. IDI-22582—A power line right-of-way authorized to Bonneville Power Administration.

Continued use of the land by valid right-of-way holders is proper subject to the terms and conditions of the grant. Administrative responsibility previously held by the United States will be assumed by the patentee.

DATES: Upon publication of this notice in the Federal Register, the land described above will be segregated from appropriation under the public land laws, including the mining laws, except the sale provisions of the Federal Land Policy and Management Act. The segregative effect will end upon issuance of patent or 270 days from the date of publication, whichever occurs first.

ADDRESSES: Upper Columbia—Salmon Clearwater District, Challis Field Office, Rt. 2, Box 610, Salmon, Idaho 83467.

FOR FURTHER INFORMATION CONTACT: For additional detailed information, contact Gloria Romero, Realty Specialist, at the address shown above or (208) 756-5421.

SUPPLEMENTARY INFORMATION: This land is being offered by direct sale to Dave Nelson of Mackay, Idaho, based on historic use and value of added improvements. Failure or refusal by Dave Nelson to submit the required fair market appraisal amount by September 29, 2000, will constitute a waiver of this preference consideration and this land may be offered for sale on a competitive or modified competitive basis. It has been determined that the subject parcel contains no known mineral values; therefore, mineral interests will be conveyed simultaneously.

For a period of 45 days from the date of publication of this notice in the Federal Register, interested parties may submit comments to the Challis Field Office Manager, Upper Columbia-Salmon Clearwater District, Challis Field Office, at the above address. Any adverse comments will be reviewed by the Field Office Manager, who may vacate or modify this realty action to accommodate the protests. If the protest is not accommodated, the comments are subject to review of the State Director who may sustain, vacate, or modify this realty action. This realty action will become the final determination of the Department of the Interior.

Dated: June 29, 2000.
Fritz Rennebaum,
District Manager.

[FR Doc. 00-17093 Filed 7-5-00; 8:45 am]

BILLING CODE 4310-66-M